DEPARTMENT OF ENERGY

Federal Energy Regulatory Commission

[Docket Nos. CP17-495-000 and CP17-494-000]

Notice of Availability of the Draft Environmental Impact Statement for the Proposed Jordan Cove Energy Project, Correction

AGENCY: Federal Energy Regulatory Commission, Department of Energy.

ACTION: Notice of availability; correction.

SUMMARY: This document corrects the Notice of Availability of the Draft Environmental Impact Statement for the proposed Jordan Cove Energy Project (CP17-495-000 and CP17-494-000) which published in the Federal Register on Friday, April 5, 2019. The attachment to the Notice, which contained the Forest Service Planning Rule Requirements, was inadvertently omitted. This corrects the omission by republishing the Notice in its entirety with the attachment.

DATES: Comments are due July 5, 2019.

Kimberly D. Bose,
Secretary.

DEPARTMENT OF ENERGY

Federal Energy Regulatory Commission

| Docket Nos.
Jordan Cove Energy Project LP | CP17-495-000
Pacific Connector Gas Pipeline L.P | CP17-494-000

Notice of Availability of the Draft Environmental Impact Statement for the Proposed Jordan Cove Energy Project

The staff of the Federal Energy Regulatory Commission (FERC or Commission) with the participation of the cooperating agencies listed below, has prepared a draft environmental impact statement (EIS) for the Jordan Cove Liquefied Natural Gas Project proposed by Jordan Cove Energy Project LP (Jordan Cove) and the Pacific Connector Gas Pipeline Project proposed by Pacific Connector Gas Pipeline L.P. (Pacific Connector) (collectively referred to as the Jordan Cove Energy Project or Project). Under Section 3 of the Natural Gas Act (NGA), Jordan Cove requests authorization to liquefy at a terminal in Coos Bay, Oregon up to 1.04 billion cubic feet of natural gas per day for export for to overseas markets. Pacific Connector seeks a Certificate of Public Convenience and Necessity under Section 7 of the NGA to construct and operate an interstate natural gas transmission pipeline providing about 1.2 billion cubic feet per day of natural gas from the Malin hub to the Jordan Cove terminal, crossing portions of Klamath, Jackson, Douglas, and Coos Counties, Oregon.

The draft EIS assesses the potential environmental effects of the construction and operation of the Project in accordance with the requirements of the National Environmental Policy Act (NEPA). As described in the draft EIS, the FERC staff concludes that approval of the Project would result in a number of significant environmental impacts; however, the majority of impacts would be less than significant because of the impact avoidance, minimization, and mitigation measures proposed by Jordan Cove and Pacific Connector and those recommended by staff in the draft EIS.

The United States Department of the Interior Bureau of Land Management (BLM); U.S. Department of Agriculture Forest Service (Forest Service); Bureau of Reclamation (Reclamation); U.S. Department of Energy; U.S. Army Corps of Engineers; U.S. Environmental Protection Agency; U.S. Department of the Interior Fish and Wildlife Service; U.S. Department of Commerce National Oceanic and Atmospheric Administration's National Marine Fisheries Service; U.S. Department of Homeland Security Coast Guard; the Coquille Indian Tribe; and the Pipeline and Hazardous Materials Safety Administration within the U.S. Department of Transportation participated as cooperating agencies in preparation of this EIS. Cooperating agencies have jurisdiction by law or special expertise with respect to resources potentially affected by the proposal and participate in the NEPA analysis. The cooperating agencies provided input into the conclusions and recommendations presented in the draft EIS. Following issuance of the final EIS, the cooperating agencies will issue subsequent decisions, determinations, permits or authorizations for the Project in accordance with each individual agency's regulatory requirements.

The BLM, with the concurrence of the Forest Service and Reclamation, would adopt and use the EIS to consider issuing a right-of-way grant for the portion of the Project on federal lands. Other cooperating agencies would use this EIS in their regulatory process, and to satisfy compliance with NEPA and other related federal environmental laws (e.g., the National Historic Preservation Act).

The BLM and the Forest Service would also use this EIS to evaluate proposed amendments to their District or National Forest land management plans that would make provision for the Pacific Connector pipeline. In order to consider the Pacific Connector right-of-way grant, the BLM must amend the affected Resource Management Plans (RMPs). The BLM therefore proposes to amend the RMPs to re-allocate all lands within the proposed temporary use area and right-of-way to a District-Designated Reserve, with management direction to manage the lands for the purposes of the Pacific Connector right-of-way. Approximately 885 acres would be re-allocated. District-Designated Reserve allocations establish specific management for a specific use or to protect specific values and resources. In accordance with Code of Federal Regulations (CFR) part 36 CFR 219.16, the Forest Service gives notice of its intent to consider amendments of Land and Resource Management Plans (LRMP) for the Umpqua, Rogue River and Winema National Forests. Proposed amendments of LRMPs include reallocation of matrix lands to Late Successional Reserves and site-specific exemptions from standards and guidelines and other LRMP requirements to allow construction of the Pacific Connector pipeline. Exemptions from standards and guidelines include requirements to protect known sites of Survey and Manage species, changes in visual quality objectives at specific locations, limitations on detrimental soil conditions, removal of effective shade at perennial stream crossings and the construction of utility corridors in riparian areas. Further information on Forest Service LRMP amendments is included below.

The Commission mailed a copy of the Notice of Availability of the draft EIS to federal, state, and local government representatives and agencies; elected officials; environmental and public interest groups; Indian Tribes; potentially affected landowners and other interested individuals and groups; and newspapers and libraries in the Project area. The draft EIS is only available in electronic format. It may be viewed and downloaded from the FERC's website (www.ferc.gov), on the Environmental Documents page (https://www.ferc.gov/industries/gas/enviro/eis.asp). In addition, the draft EIS may be accessed by using the eLibrary link on the FERC's website. Click on the eLibrary link (https://www.ferc.gov/docs-filing/elibrary.asp), click on General Search, and enter the docket number in the “Docket Number” field, excluding the last three digits (i.e., CP17-494 or CP17-495). Be sure you have selected an appropriate date range. For assistance, please contact FERC Online Support at FercOnlineSupport@ferc.gov or toll free at (866) 208-3676, or for TTY, contact (202) 502-8659.

Any person wishing to comment on the draft EIS may do so. Your comments should focus on the draft EIS's disclosure and discussion of potential environmental effects, reasonable alternatives, and measures to avoid or lessen environmental impacts. To ensure consideration of your comments on the proposal in the final EIS, it is important that the Commission receive your comments on or before 5:00 p.m. Eastern Time on July 5, 2019.

For your convenience, there are four methods you can use to submit your comments to the Commission.¹ The Commission will provide equal consideration to all comments received, whether filed in written form or provided verbally. The Commission encourages electronic filing of comments and has staff available to assist you at (866) 208-3676 or FercOnlineSupport@ferc.gov. Please carefully follow these instructions so that your comments are properly recorded.

¹ The contents of your comment including your address, phone number, email address, or other personal identifying information may be made available to the public. While you may request that your personal identifying information be withheld from public view, we cannot guarantee that we will be able to do so.

(1) You can file your comments electronically using the eComment feature on the Commission's website (www.ferc.gov) under the link to Documents and Filings. This is an easy method for submitting brief, text-only comments on a project;

(2) You can file your comments electronically by using the eFiling feature on the Commission's website (www.ferc.gov) under the link to Documents and Filings. With eFiling, you can provide comments in a variety of formats by attaching them as a file with your submission. New eFiling users must first create an account by clicking on “eRegister.” If you are filing a comment on a particular project, please select “Comment on a Filing” as the filing type; or

(3) You can file a paper copy of your comments by mailing them to the following address. Be sure to reference the Project docket numbers (CP17-494-000 and CP17-495-000) with your submission: Kimberly D. Bose, Secretary, Federal Energy Regulatory Commission, 888 First Street NE, Room 1A, Washington, DC 20426.

(4) In lieu of sending written or electronic comments, the Commission invites you to attend a public comment session that will be held in the Project area to receive comments on the draft EIS. The dates, locations, and times of these sessions will be provided in a supplemental notice.

Any person seeking to become a party to the proceeding must file a motion to intervene pursuant to Rule 214 of the Commission's Rules of Practice and Procedures (18 CFR 385.214). Motions to intervene are more fully described at http://www.ferc.gov/resources/guides/how-to/intervene.asp. Only intervenors have the right to seek rehearing or judicial review of the Commission's decision. The Commission grants affected landowners and others with environmental concerns intervenor status upon showing good cause by stating that they have a clear and direct interest in this proceeding which no other party can adequately represent. Simply filing environmental comments will not give you intervenor status, but you do not need intervenor status to have your comments considered. Subsequent decisions, determination, permits, and authorization by the cooperating agencies are subject to the administrative procedures of each respective agency.

Questions?

Additional information about the Project is available from the Commission's Office of External Affairs, at (866) 208-FERC, or on the FERC website (www.ferc.gov) using the eLibrary link. The eLibrary link also provides access to the texts of all formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to www.ferc.gov/docs-filing/esubscription.asp.

Dated: March 29, 2019.

Kimberly D. Bose,

Secretary.

Forest Service Planning Rule Requirements

Proposed Actions of the Forest Service

The purpose of and need for the proposed action by the Forest Service is to consider amending affected National Forest land and resource management plans to make provision for the Pacific Connector right-of-way.

Responsible Official for the Forest Service Amendments

The Forest Supervisor of the Umpqua National Forest is responsible for all LRMP amendments. If the Forest Service adopts the FERC EIS for the Pacific Connector Pipeline Project, the Forest Supervisor of the Umpqua National Forest will decide whether to amend the LRMPs of the Umpqua, Rogue River, and Winema National Forests as proposed or as described in an alternative.

Pursuant to Title 40 of the Code of Federal Regulations, Part 1506.3(c) (40 CFR 1506.3(c)), the Forest Service may adopt and use the EIS developed by FERC to consider amendments to the LRMPs that would be required for the proposed crossings of the three National Forests affected. The Forest Service will prepare a final Record of Decision for the plan amendments decisions, after issuance of the FERC final EIS.

The following amendments have been proposed by the Forest Service as part of the proposed action in the FERC draft EIS:

Amendment of Forest Service Land Management Plans

Forest Service-1—Project-Specific Amendment to Exempt Management Recommendations for Survey and Manage Species on the Umpqua National Forest, Rogue River National Forest, and Winema National Forest LRMPs:

Applicable National Forest LRMPs would be amended to exempt certain known sites within the area of the proposed Pacific Connector right-of-way grant from the Management Recommendations required by the 2001 “Record of Decision and Standards and Guidelines for Amendments to the Survey and Manage, Protection Buffer, and other Mitigation Measures Standards and Guidelines. This is a project-specific plan amendment applicable only to the Pacific Connector Pipeline Project and would not change future management direction for any other project. The amendment would provide an exception from these standards for the Pacific Connector Project and include specific mitigation measures and project design requirements for the project.

Amendment of the Umpqua National Forest LRMP

UNF-1—Project-Specific Amendment to Allow Removal of Effective Shade on Perennial Streams:

The Umpqua National Forest LRMP would be amended to exempt the Standards and Guidelines for Fisheries (Umpqua National Forest LRMP, page IV-33, Forest-Wide) to allow the removal of effective shading vegetation where perennial streams are crossed by the Pacific Connector right-of-way. The amendment would provide an exception from these standards for the Pacific Connector Pipeline Project and include specific mitigation measures and project design requirements for the project. This is a project-specific plan amendment applicable only to the Pacific Connector Pipeline Project and would not change future management direction for any other project.

UNF-2—Project-Specific Amendment to Allow the Pacific Connector Pipeline Project in Riparian Areas:

The Umpqua National Forest LRMP would be amended to change prescriptions C2-II (LRMP IV-173) and C2-IV (LRMP IV-177) to allow the Pacific Connector pipeline route to run parallel to the East Fork of Cow Creek for approximately 0.1 mile. The amendment would provide an exception from these standards for the Pacific Connector Pipeline Project and include specific mitigation measures and project design requirements for the project. This is a project-specific plan amendment applicable only to the Pacific Connector Pipeline Project and would not change future management direction for any other project.

UNF-3—Project-Specific Amendment to Exempt Limitations on Detrimental Soil Conditions within the Pacific Connector Right-of-Way in All Management Areas:

The Umpqua National Forest LRMP would be amended to exempt limitations on the area affected by detrimental soil conditions from displacement and compaction within the Pacific Connector right-of-way. The amendment would provide an exception from these standards for the Pacific Connector Pipeline Project and include specific mitigation measures and project design requirements for the project. This is a project-specific plan amendment applicable only to the Pacific Connector Pipeline Project and would not change future management direction for any other project.

UNF-4—Reallocation of Matrix Lands to LSR:

The Umpqua National Forest LRMP would be amended to change the designation of approximately 588 acres from Matrix land allocations to the LSR land allocation. This change in land allocation is proposed to partially mitigate the potential adverse impact of the Pacific Connector Pipeline Project on LSR 223 on the Umpqua National Forest. This is a plan level amendment that would change future management direction for the lands reallocated from Matrix to LSR.

Amendment of the Rogue River National Forest LRMP

RRNF-2—Project Specific Amendment of Visual Quality Objectives (VQO) on the Big Elk Road:

The Rogue River National Forest LRMP would be amended to change the VQO where the Pacific Connector pipeline route crosses the Big Elk Road. The amendment would provide an exception from these standards for the Pacific Connector Pipeline Project and include specific mitigation measures and project design requirements for the project. This is a project-specific plan amendment that would apply only to the Pacific Connector Pipeline Project in the vicinity of Big Elk Road and would not change future management direction for any other project.

RRNF-3—Project-Specific Amendment of VQO on the Pacific Crest Trail:

The Rogue River National Forest LRMP would be amended to change the VQO where the Pacific Connector pipeline route crosses the Pacific Crest Trail. The amendment would provide an exception from these standards for the Pacific Connector Pipeline Project and include specific mitigation measures and project design requirements for the project. This is a project-specific plan amendment that would apply only to the Pacific Connector Pipeline Project in the vicinity of the Pacific Crest Trail and would not change future management direction for any other project.

RRNF-4—Project-Specific Amendment of Visual Quality Objectives Adjacent to Highway 140:

The Rogue River National Forest LRMP would be amended to allow 10-15 years to meet the VQO of Middleground Partial Retention. The amendment would provide an exception from these standards for the Pacific Connector Pipeline Project and include specific mitigation measures and project design requirements for the project. This is a project-specific plan amendment that would apply only to the Pacific Connector Pipeline Project in Sections 11 and 12, T.37S., R.3E., W.M., OR, and would not change future management direction for any other project.

RRNF-5—Project-Specific Amendment to Allow the Pacific Connector Pipeline Project in Management Strategy 26, Restricted Riparian Areas:

The Rogue River National Forest LRMP would be amended to allow the Pacific Connector right-of-way to cross the Restricted Riparian land allocation. The amendment would provide an exception from these standards for the Pacific Connector Pipeline Project and include specific mitigation measures and project design requirements for the project. This is a site-specific amendment applicable only to the Pacific Connector Pipeline Project and would not change future management direction for any other project.

RRNF-6—Project-Specific Amendment to Exempt Limitations on Detrimental Soil Conditions within the Pacific Connector Right-of-Way in All Management Areas:

The Rogue River National Forest LRMP would be amended to exempt limitations on areas affected by detrimental soil conditions from displacement and compaction within the Pacific Connector right-of-way in all affected Management Strategies. The amendment would provide an exception from these standards for the Pacific Connector Pipeline Project and include specific mitigation measures and project design requirements for the project. This is a project-specific plan amendment applicable only to the Pacific Connector Pipeline Project and would not change future management direction for any other project.

RRNF-7—Reallocation of Matrix Lands to LSR:

The Rogue River National Forest LRMP would be amended to change the designation of approximately 512 acres from Matrix land allocations to the LSR. This is a plan level amendment that would change future management direction for the lands reallocated from Matrix to LSR.

Amendment of the Winema National Forest LRMP

WNF-1—Project -Specific Amendment to Allow Pacific Connector Pipeline Project in Management Area 3:

The Winema National Forest LRMP would be amended to change the Standards and Guidelines for Management Area 3 (MA-3). The amendment would provide an exception from these standards for the Pacific Connector Pipeline Project and include specific mitigation measures and project design requirements. This is a project-specific plan amendment applicable only to the Pacific Connector Pipeline Project and would not change future management direction for any other project.

WNF-2—Project-Specific Amendment of VQO on the Dead Indian Memorial Highway:

The Winema National Forest LRMP would be amended to allow 10-15 years to achieve the VQO of Foreground Retention where the Pacific Connector right-of-way crosses the Dead Indian Memorial Highway. The amendment would provide an exception from these standards for the Pacific Connector Pipeline Project and include specific mitigation measures and project design requirements for the project. This is a project-specific plan amendment that would apply only to the Pacific Connector Pipeline Project in the vicinity of the Dead Indian Memorial Highway and would not change future management direction for any other project.

WNF-3—Project-Specific Amendment of VQO Adjacent to the Clover Creek Road:

The Winema National Forest LRMP would be amended to allow 10-15 years to meet the VQO for Scenic Management, Foreground Partial Retention, where the Pacific Connector right-of-way is adjacent to the Clover Creek Road. The amendment would provide an exception from these standards for the Pacific Connector Pipeline Project and include specific mitigation measures and project design requirements for the project. This is a project-specific plan amendment that would apply only to the Pacific Connector Pipeline Project in the vicinity of Clover Creek Road and would not change future management direction for any other project.

WNF-4—Project-Specific Amendment to Exempt Limitations on Detrimental Soil Conditions within the Pacific Connector Right-of-Way in All Management Areas:

The Winema National Forest LRMP would be amended to exempt restrictions on detrimental soil conditions from displacement and compaction within the Pacific Connector right-of-way in all affected management areas. The amendment would provide an exception from these standards for the Pacific Connector Pipeline Project and include specific mitigation measures and project design requirements for the project. This is a project-specific plan amendment applicable only to the Pacific Connector Pipeline Project and would not change future management direction for any other project.

WNF-5—Project-Specific Amendment to Exempt Limitations on Detrimental Soil Conditions within the Pacific Connector Right-of-Way in Management Area 8:

The Winema National Forest LRMP would be amended to exempt restrictions on detrimental soil conditions from displacement and compaction within the Pacific Connector right-of-way within the Management Area 8, Riparian Area (MA-8). The amendment would provide an exception from these standards for the Pacific Connector Pipeline Project and include specific mitigation measures and project design requirements for the project. This is a project-specific plan amendment applicable only to the Pacific Connector Pipeline Project and would not change future management direction for any other project.

Comments and Administrative Review of Forest Service Decisions To Amend Land Management Plans

The Forest Service is requesting public comments on proposed amendments of the LRMPs that would allow the Pacific Connector Gas Pipeline to cross the UNF, RRNF, and WNF. All comments must be submitted to the FERC as directed in this notice.

All comments must be submitted to the FERC, the lead federal agency, within the timeframe stated in this Notice of Availability. Refer to Docket No. CP17-494-000 in all correspondence to ensure that your comments are correctly filed in the record. You may submit your comments to the FERC using one of the four methods listed in this notice. Only those who submit timely and specific written comments during the public comment period are eligible to file an objection with the Forest Service.

The proposed Forest Service plan amendments are being developed in accordance with the planning regulations at 36 CFR 219 (2012). Decisions by the Forest Service to approve “plan level” amendments to Land Management Plans (proposed amendments UNF-4 and RRNF-7 in this Notice) are subject to the Pre-Decisional Administrative Review Process Regulations at 36 CFR 219 subpart B. The term “plan level” refers to plan amendments that would apply to future management actions.

Decisions by the Forest Service to approve “project-specific” plan amendments (proposed amendments UNF-1 thru 3, RRNF-2 thru 6, and WNF-1 thru 5 in this Notice) are subject to the Administrative Review Process of 36 CFR 218 subpart A and B, in accordance with 36 CFR 219.59(b). The term “project specific” refers to amendments that would only apply to the proposed project and would not apply to any future management actions. Refer to the applicable administrative review regulations for eligibility requirements.

The Forest Service concurrence to BLM to issue a right-of-way grant would not be a decision subject to NEPA and, therefore, would not be subject to the Forest Service administrative review procedures.

[FR Doc. 2019-07313 Filed 4-11-19; 8:45 am]

BILLING CODE 6717-01-P